ENVIRONMENTAL PROTECTION AGENCY

[FRL-8003-2]

Science Advisory Board Staff Office; Notification of a Science Advisory Board Workshop: Science for Valuation of EPA's Ecological Protection Decisions and Programs

AGENCY: Environmental Protection Agency (EPA).

ACTION: Notice.

SUMMARY: The EPA Science Advisory Board (SAB) is conducting a workshop on Science for Valuation of EPA's Ecological Protection Decisions and Programs. The Workshop is open to public observers, however, seating for the public is limited and available on a first-come basis to those who pre-register (see Workshop Registration Instructions, below).

DATES: The SAB Workshop will be held on Tuesday, December 13, 2005, from 9 a.m. until 6 p.m., and from 8:30 a.m. until 12 p.m. on Wednesday, December 14, 2005.

ADDRESSES: The SAB Workshop will be held at the Ronald Reagan Building, 1300 Pennsylvania Avenue, NW., Washington, DC 20004.

FOR FURTHER INFORMATION CONTACT: Any member of the public wishing further information concerning this workshop should contact Ms. Marie Gernes, EPA Science Advisory Board Staff Office (1400F), U.S. Environmental Protection Agency, 1200 Pennsylvania Avenue, NW., Washington, DC 20460; telephone (202) 343-9975; Fax (202) 233-0643; or via e-mail at gernes.marie@epa.gov. General information about the EPA Science Advisory Board may be found on the SAB Web site (http://www.epa.gov/sab).

Workshop Registration Instructions: Members of the public wishing to observe the Workshop must pre-register no later than 12 noon Eastern Time on Monday, December 5, 2005. Please pre-register via e-mail or fax to Ms. Marie Gernes (see above information), providing your name, title, organization, mailing address, phone and e-mail.

SUPPLEMENTARY INFORMATION: The SAB was established by 42 U.S.C. 4365 to provide independent scientific and technical advice, consultation, and recommendations to the EPA Administrator on the technical basis for Agency positions and regulations. The SAB Committee on Valuing the Protection of Ecological Systems and Services (C-VPESS) is undertaking a study to assess the current state of science in this area. The SAB is convening this workshop to learn about recent developments in ecological valuation methods and better understand the potential applications and implications of these methods for valuation programs at EPA. The Workshop participants will include advisory members of the SAB, the Clean Air Scientific Advisory Committee (CASAC), the Advisory Council on Clean Air Compliance Analysis (Council), their committees, and invited EPA and outside experts in valuation of ecological services.

A draft Workshop agenda is posted on the SAB Web site under “Recent Additions” (http://www.epa.gov/sab/whatsnew.htm). An updated agenda will be posted prior to the Workshop. Workshop Proceedings will be made available at a date to be announced on the SAB Web site.

Accessibility: For information on access or services for individuals with disabilities, please contact Ms. Marie Gernes at 202-343-9975 or gernes.marie@epa.gov. To request accommodation of a disability, please contact Ms. Gernes, preferably at least ten days prior to the workshop, to give EPA as much time as possible to process your request.

Dated: November 18, 2005.
Vanessa Vu,
Director, EPA Science Advisory Board Staff Office.

[FR Doc. E5-6582 Filed 11-25-05; 8:45 am]

BILLING CODE 6560-50-P